DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Cambridge, Medford, and Somerville, Massachusetts; King County, Washington; and Elgin, Illinois. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before November 6, 2017.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Green Line Extension Project, Cambridge, Medford, and Somerville, Massachusetts. Project sponsor: Massachusetts Department of Transportation (MassDOT) and Massachusetts Bay Transportation Authority (MBTA). Project description: The project would use a two-branch operation to extend light rail service to College Avenue in Medford and to Union Square in Somerville from the re-located Lechmere Station. The project would also include a maintenance facility and the Somerville Community Path. A re-evaluation was issued because of the following modifications: A re-design of stations from enclosed stations to open air platforms, a smaller maintenance facility, reduced reconstruction of some bridges, an alternative Lechmere Viaduct structure, a modification to retaining walls, a substitution of noise mitigation from noise walls to sound proofing, and a redesign of the Somerville Community Path. Final agency actions: FTA determination that neither a Supplemental Environmental Impact Statement nor a Supplemental Environmental Assessment is necessary. Supporting documentation: Letter by MBTA, dated March 28, 2017, and the Certificate of the Commonwealth of Massachusetts Secretary of Energy and Environmental Affairs on the Notice of Project Change, dated March 10, 2017.

2. Project name and location: East Link Extension Light Rail Project, King County, WA. Project sponsor: Central Puget Sound Regional Transit Authority (Sound Transit). Project description: The project would extend the current light rail system an additional 18 miles from Downtown Seattle to Mercer Island and Bellevue along Interstate 90 (I-90) and then through Bellevue to Overlake and Redmond. The project would include 12 stations, four park-and-ride lots, and supporting facilities. A re-evaluation was issued to assess operational changes to the I-90 high-occupancy vehicle (HOV) lanes between Seattle and Mercer Island and project refinements associated with integrating transit on Mercer Island. These changes altered mitigation measures in five locations, including installing traffic signals, adjusting signal timing, and minor widening and restriping at certain intersections and I-90 ramps. Final agency actions: FTA determination that neither a Supplemental Environmental Impact Statement nor a Supplemental Environmental Assessment is necessary. Supporting documentation: State Environmental Policy Act Addendum to the Final Environmental Impact Statement, dated April 2017.

3. Project name and location: Milwaukee West Line Fox River Bridge Improvement Project, Elgin, IL. Project sponsor: Metra. Project description: The project would create a new Fox River railroad bridge for Metra's Milwaukee West Line. A new single-track bridge would be constructed immediately west of the existing, deteriorating bridge. Once the existing bridge is removed, the project would construct three piers extending east from the new bridge to support a second track. The project would also replace signal components near the bridge, install a new interlocking, and add underground cable for the signal system. Final agency actions: No use determination of Section 4(f) resources; Section 106 finding of no historic properties affected; project-level air quality conformity; and a Finding of No Significant Impact, dated May 19, 2017. Supporting documentation: Environmental Assessment, dated February 2017.

Lucy Garliauskas,
Associate Administrator Planning and Environment.

[FR Doc. 2017-11830 Filed 6-6-17; 8:45 am]

BILLING CODE P